DEPARTMENT OF COMMERCE

National Institute of Standards and Technology

Manufacturing Extension Partnership Advisory Board

AGENCY: National Institute of Standards and Technology, Commerce.

ACTION: Notice of Open Meeting.

SUMMARY: NIST announces that the Manufacturing Extension Partnership (MEP) Advisory Board, National Institute of Standards and Technology (NIST) will hold an open meeting on Sunday, May 6, 2012, from 9 a.m. to 5 p.m.

DATES: The meeting will convene on Sunday, May 6, 2012, at 9 a.m. and will adjourn at 5 p.m. the same day.

ADDRESSES: The meeting will be held at the Orlando World Center Marriott Resort and Convention Center, 8701 World Center Drive, Orlando, Florida 32821.

Please see admission instructions in the SUPPLEMENTARY INFORMATION section below.

FOR FURTHER INFORMATION CONTACT: Karen Lellock, Manufacturing Extension Partnership, National Institute of Standards and Technology, 100 Bureau Drive, Mail Stop 4800, Gaithersburg, Maryland 20899-4800, telephone number (301) 975-4269.

SUPPLEMENTARY INFORMATION: This meeting is being held in conjunction with MEP's Manufacturing Innovations 2012 Conference in Orlando, Florida. The MEP Advisory Board (Board) is composed of 10 members, appointed by the Director of NIST. MEP is a unique program consisting of centers across the United States and Puerto Rico with partnerships at the state, federal, and local levels. The Board works closely with MEP to provide input and advice on MEP's programs, plans, and policies. This meeting will focus on (1) discussions with local MEP Board members, (2) a national manufacturing strategy, and (3) an update on MEP's workforce initiatives. The agenda may change to accommodate other Board business.

Admission Instructions: Anyone wishing to attend this meeting should submit their name, email address and phone number to Karen Lellock (karen.lellock@nist.gov or 301-975-4269) no later than April 30, 2012.

Individuals and representatives of organizations who would like to offer comments and suggestions related to the MEP Advisory Board's business are invited to request a place on the agenda. Approximately 15 minutes will be reserved for public comments at the beginning of the meeting. Speaking times will be assigned on a first-come, first-served basis. The amount of time per speaker will be determined by the number of requests received but is likely to be no more than three to five minutes each. Questions from the public will not be considered during this period. Speakers who wish to expand upon their oral statements, those who had wished to speak but could not be accommodated on the agenda, and those who were unable to attend in person are invited to submit written statements to the MEP Advisory Board, National Institute of Standards and Technology, National Institute of Standards and Technology, 100 Bureau Drive, Mail Stop 4800, Gaithersburg, Maryland 20899-4800, or via fax at (301) 963-6556, or electronically by email to karen.lellock@nist.gov.

Phillip Singerman,
Associate Director for Innovation & Industry Services.

[FR Doc. 2012-8366 Filed 4-5-12; 8:45 am]

BILLING CODE 3510-13-P